DEPARTMENT OF DEFENSE

Department of the Army; Corps of Engineers

Notice of Availability of the Draft Environmental Impact Statement for the Cape Wind Energy Project, Nantucket Sound and Yarmouth, MA, Application for Corps Section 10 Individual Permit

AGENCY: Department of the Army, U.S. Army Corps of Engineers, DoD.

ACTION: Notice of availability.

SUMMARY: In keeping with the purposes of the National Environmental Policy Act (NEPA), the New England District, Corps of Engineers (Corps) has prepared a Draft Environmental Impact Statement (DEIS) in response to a permit application for the proposed construction of an offshore wind-powered generating facility by Cape Wind Associates, LLC on Horseshoe Shoal in Nantucket Sound, MA. The DEIS evaluated the potential environmental impacts associated with the construction, operation and decommissioning of the proposed offshore wind facility. Potential impacts at four alternative locations were also considered for comparison purposes. Public comment on the proposed and any or all of the alternative sites is requested and encouraged.

DATES: The Corps will hold four public hearings to receive comments on the DEIS. The public hearings will be held on:

1. December 6, 2004, 6 p.m. to 10 p.m., Oak Bluffs, MA.

2. December 7, 2004, 7 p.m. to 11 p.m., West Yarmouth, MA.

3. December 8, 2004, 6 p.m. to 10 p.m., Nantucket, MA.

4. December 16, 2004, 7 p.m. to 11 p.m., Cambridge, MA.

Comments on the DEIS must be received no later than January 10, 2005.

Additional information on how to submit comments is included in the SUPPLEMENTARY INFORMATION section.

ADDRESSES: The hearing locations are:

1. Martha's Vineyard Regional High School, Vineyard Haven Road, Oak Bluffs, MA.

2. Mattacheese Middle School, 400 Higgins Crowell Road, West Yarmouth, MA.

3. Nantucket Community School, Mary P. Walker Auditorium, 10 Surfside Road, Nantucket, MA.

4. Massachusetts Institute of Technology, Building 10 Alumni Center (Maclaurin Buildings)—Room 10-250, 222 Memorial Drive, Cambridge, MA.

Additional information regarding locations where the DEIS and appendices can be viewed is included in the SUPPLEMENTARY INFORMATION section.

FOR FURTHER INFORMATION CONTACT: Karen Kirk Adams, 978-318-8335.

SUPPLEMENTARY INFORMATION: Cape Wind Associates, LLC (the applicant) has requested a permit under Section 10 of the Rivers and Harbors Act of 1899 to install 130 wind turbine generators, an electric service platform, and associated cable in an area of Nantucket Sound, Massachusetts known as Horseshoe Shoal. The applicant's intended purpose is to provide wind-generated energy that will be transmitted to the regional power grid. The wind turbine generators would be spaced one-third to one-half mile apart over a 24 square mile area, producing up to 454 megawatts of wind generated energy to be transmitted from a centrally located electric service platform via a submarine cable to a landfall location in Yarmouth, MA. The proposed wind turbines would be up to 420 feet high with the hub height approximately 260 feet above the water surface. The northernmost turbines would be approximately 4 miles from Yarmouth, MA, the southeastern most turbines would be approximately 11 miles from Nantucket, and the westernmost turbines would be approximately 5.5 miles from Martha's Vineyard. The proposed submarine cable system, consisting of two 115 kV solid dielectric cable circuits, would be jet-plow embedded into the seabed to a depth on approximately 6 feet below the present bottom. The overland cable system would be installed underground within existing public right-of-ways and roadways in the town of Yarmouth, MA to NSTAR's existing electric system in Barnstable, MA. The approximate construction start date for the proposed project is November 2005, with commercial operation starting in November 2006.

The DEIS is intended to provide the information needed for the Corps to perform a public interest review for the Section 10 permit decision. Significant issues analyzed in the DEIS included geology and sediment conditions; physical oceanographic conditions; benthic and shellfish resources; finfish resources and commercial and recreational fisheries; protected marine species; terrestrial ecology, wildlife, and protected species; avian resources; coastal and freshwater wetland resources; water quality; cultural and recreational resources; visual resources; noise; transportation; electrical and magnetic fields, telecommunications systems; air quality; and socioeconomic resources. Several alternatives were evaluated for comparative purposes, including the No Action Alternative under which the new facility will not be built. In addition to the applicant's proposed location, which is Nantucket Sound, the potential impacts and benefits of locating a wind energy project at the Massachusetts Military Reservation, a site south of Tuckernuck Island, and a combination site comprised of two areas south of New Bedford with a reduced footprint in Nantucket Sound were evaluated for comparison purposes. Public comment on any or all of the alternatives is encouraged. The Notice of Intent for preparation of the DEIS was published in the Federal Register (67 FR 4414, January 30, 2002).

Other Environmental Review and Consultation Requirements. To the fullest extent possible, the DEIS integrated analyses and consultation required by the Endangered Species Act of 1973, as amended (Pub. L. 93-205; 16 U.S.C. 1531, eq seq.); the Magnuson-Stevens Fishery Conservation and Management Act, as amended (Pub. L. 94-265; 16 U.S.C. 1801, et seq.), the National Historic Preservation Act of 1966, as amended (Pub. L. 89-855; 16 U.S.C. 470. et seq.), the Fish and Wildlife Coordination Act of 1958, as amended (Pub. L. 85-624; 16 U.S.C. 661, et seq.); the Coastal Zone Management Act of 1972, as amended (Pub. L. 92-583; 16 U.S.C. 1451, et seq.); the Clean Water Act of 1977, as amended (Pub. L. 92-500; 33 U.S.C. 1251, et seq.); Section 10 of the Rivers and Harbors Act of 1899, 33 U.S.C. 403 et seq.); the Outer Continental Shelf Lands Act (Pub. L. 95-372; 43 U.S.C. 1333(e)), and applicable and appropriate Executive Orders. Additionally, the DEIS was prepared as a Draft Environmental Impact Report to satisfy the requirements of the Massachusetts Environmental Policy Act (301 CMR 11.00 et seq.) and to satisfy the requirements of the Cape Cod Commission as a Development of Regional Impact.

Public Participation. Any person wishing to comment on the DEIS can submit written comments to: Karen Kirk Adams, Project Manager, Regulatory Division, U.S. Army Corps of Engineers, New England District, 696 Virginia Road, Concord, Massachusetts 01742-2751, Reference File No. NAE-2004-338-1, or by e-mail to wind.energy@usace.army.mil. Interested parties may view the DEIS online at http://www.nae.usace.army.mil/projects/ma/ccwf/deis.htm. The DEIS is also available to review at the following locations:

1. Sturgis Library, 3090 Main Street, (PO Box 606), Barnstable, MA.

2. South Yarmouth Library, 312 Old Main Street, Yarmouth, MA.

3. West Yarmouth Library, Route 28, West Yarmouth, MA.

4. Yarmouthport Library, 297 Main Street (6A), Yarmouthport, MA.

5. Whelden Memorial Library, 2401 Meeting House Way, (PO Box 147), West Barnstable, MA.

6. Cotuit Library, 871 Main Street (PO Box 648), Cotuit, MA.

7. Hyannis Public Library, 401 Main Street, Hyannis, MA.

8. Centerville Public Library, 585 Main Street, Centerville, MA.

9. Marstons Mills Library, 2160 Main Street, Marstons Mills, MA.

10. Osterville Free Library, 43 Wianno Avenue, Osterville, MA.

11. Mashpee Library, 100 Nathan Ellis Highway (PO Box 657), Mashpee, MA.

12. Falmouth Public Library, 123 Katherine Lee Bates Road, Falmouth, MA.

13. East Falmouth Public Library, 310 East Falmouth Highway, East Falmouth, MA.

14. North Falmouth Public Library, 6 Chester Street, North Falmouth, MA.

15. West Falmouth Public Library, 575 West Falmouth Highway (PO Box 1209), West Falmouth, MA.

16. Dennis Memorial Library, 1020 Old Bass River Road, Dennis, MA.

17. Dennis Public Library, 673 Main Street (Route 28), Dennisport, MA.

18. Woods Hole Library, 581 Woods Hole Road (PO Box 185), Woods Hole, MA.

19. Brooks Free Library, 739 Main Street, Harwich, MA.

20. Eldredge Public Library, 64 Main Street, Chatham, MA.

21. Nantucket Atheneum, 1 India Street (PO Box 808), Nantucket, MA.

22. Edgartown Free Public Library, 58 North Water Street (PO Box 5249), Edgartown, MA.

23. Oak Bluffs Public Library, 80 Pennacook Avenue (PO Box 2039), Oak Bluffs, MA.

24. Free Public Library, 1042A State Road (PO Box 190), West Tisbury, MA.

25. Chilmark Public Library, 522 South Road, Chilmark, MA.

26. Aquinnah Public Library, 1 Church Street, Aquinnah, MA.

27, New Bedford Free Public Library, 613 Pleasant Street, New Bedford, MA.

28. Jonathan Bourne Public Library, 19 Sandwich Road, Bourne, MA.

29. Vineyard Haven Public Library, RFD 139A Main Street, Vineyard Haven, MA.

30. Sandwich Free Public Library, 142 Main Street, Sandwich, MA.

31. Boston Public Library, Central Library, 700 Boylston Street, Boston, MA.

32. Cape Cod Community College, Wilkens Library, 2240 Iyanough Road, West Barnstable, MA.

Thomas L. Koning,
COL, EN, Commander.

[FR Doc. 04-24907 Filed 11-8-04; 8:45 am]

BILLING CODE 3710-24-M